DEPARTMENT OF TRANSPORTATION

Federal Aviation Administration

14 CFR Part 39

[Docket No. FAA-2005-20141; Directorate Identifier 2005-NE-01-AD; Amendment 39-14836; AD 2006-24-07]

RIN 2120-AA64

Airworthiness Directives; Hartzell Propeller Inc. Propellers and McCauley Propeller Systems Controllable Propellers

AGENCY: Federal Aviation Administration (FAA), Department of Transportation (DOT).

ACTION: Final rule.

SUMMARY: The FAA is adopting a new airworthiness directive (AD) for certain Hartzell Propeller Inc. HC, BHC, and PHC series propellers; and McCauley Propeller Systems controllable propellers serviced by Oxford Aviation Services Limited, doing business as CSE Aviation, in the United Kingdom between September 1998 and October 2003. This AD requires inspecting the propeller blades and other critical propeller parts for wear and mechanical damage. This AD results from findings that CSE Aviation failed to perform some specific inspections and repairs. We are issuing this AD to detect unsafe conditions that could result in a propeller blade separating from the hub and loss of control of the airplane.

DATES: This AD becomes effective Janauary 3, 2007.

ADDRESSES: You may examine the AD docket on the Internet at http://dms.dot.gov or in Room PL-401 on the plaza level of the Nassif Building, 400 Seventh Street, SW., Washington, DC.

FOR FURTHER INFORMATION CONTACT: Timothy Smyth, Aerospace Engineer, Chicago Aircraft Certification Office, FAA, Small Airplane Directorate, 2300 East Devon Avenue, Des Plaines, IL 60018-4696; telephone (847) 294-7132; fax (847) 294-7834.

SUPPLEMENTARY INFORMATION: The FAA proposed to amend 14 CFR part 39 with a proposed AD. The proposed AD applies to certain Hartzell Propeller Inc. HC, BHC, and PHC series propellers; and McCauley Propeller Systems controllable propellers serviced by Oxford Aviation Services Limited, doing business as CSE Aviation, in the United Kingdom between September 1998 and October 2003. We published the proposed AD in the Federal Register on June 15, 2005 (70 FR 34714). That action proposed to require inspecting the propeller blades and other critical propeller parts for wear and mechanical damage.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the comments received.

Request To Clarify Reason for the AD

CSE Aviation requests that we clarify the statement “This (proposed) AD results from findings that CSE Aviation failed to perform specific inspections and repairs”, to read “This (proposed) AD results from findings that CSE Aviation failed to perform some specific inspections and repairs”. The commenter states that adding this word more clearly defines the conditions existing in the field. We agree and added the word “some” in this sentence of the AD.

Request To Clarify the Discussion

CSE Aviation requests that we clarify the Discussion paragraph in the proposed AD to state the following: “The investigators believe the discrepancies date from about 1998 until November 2003 when CSE Aviation stopped updating their internal procedures to reflect the latest version of the manufacturers' maintenance manuals. The audit also showed that CSE Aviation did not perform some specific inspections required by the maintenance manual. CSE Aviation conducted an internal investigation and confirmed that they did not perform some inspections and rework procedures such as:” We disagree the discussion paragraph needs change. We find it adequate as drafted. We did not change the AD.

Requests To Clarify Costs of Compliance

CSE Aviation requests that we clarify the Costs of Compliance paragraph by specifying that about 49 affected Hartzell propellers and about 24 affected McCauley propellers are installed on U.S.-registered airplanes. We agree. We changed the Costs of Compliance paragraph in the AD to reflect that about 49 affected Hartzell propellers and 24 affected McCauley propellers are installed on U.S.-registered airplanes.

CSE Aviation also suggests that our estimate for part cost replacement of $2,350 per propeller, is too high. They suggest a part cost per propeller of $200 per propeller, and suggest that our estimate might lead to other repair facilities replacing parts that are airworthy. They also suggest that the actual total cost for U.S.-registered installations is about $62,050, with a total worldwide cost of about $437,750. We do not agree. The cost numbers provided by CSE Aviation do not include a proper range for defective parts, or include improper repairs that might be found during the inspections. We did not change the AD.

Request To Clarify the Unsafe Condition Statement

CSE Aviation requests that we clarify the unsafe condition statement to state that we are issuing this AD to detect potentially unsafe conditions that could result in a propeller blade separating from the hub and loss of control of the airplane. We agree and added the word “potentially” in this sentence of the AD.

Request To Change Compliance Paragraph (f)

CSE Aviation requests that we change the words “ FAA-approved” with “appropriately approved” in compliance paragraph (f), since the affected propeller population is worldwide. We do not agree. Our authority to mandate airworthiness actions is limited to FAA-approved repair facilities and operators, and not foreign country-approved facilities and operators.

Conclusion

We have carefully reviewed the available data, including the comment[s] received, and determined that air safety and the public interest require adopting the AD with the changes described previously. We have determined that these changes will neither increase the economic burden on any operator nor increase the scope of the AD.

Costs of Compliance

We estimate that about 49 Hartzell Propeller Inc. HC series propellers and about 24 McCauley Propeller Systems controllable propellers of the affected design installed on airplanes of U.S. registry will be affected by this AD. We also estimate that it will take about 10 work hours per propeller to perform the proposed actions, and that the average labor rate is $65 per work hour. Required parts will cost about $2,350 per propeller. Based on these figures, we estimate the total cost of the AD to U.S. operators to be $1,545,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-24-07 Hartzell Propeller Inc. (formerly TRW Hartzell Propeller) and McCauley Propeller Systems (formerly Cessna Aircraft Co.): Amendment 39-14836. Docket No. FAA-2005-20141; Directorate Identifier 2005-NE-01-AD.

Effective Date

(a) This airworthiness directive (AD) becomes effective January 3, 2007.

Affected ADs

(b) None.

Applicability

(c) This AD applies to Hartzell Propeller Inc. (formerly TRW Hartzell Propeller) and McCauley Propeller Systems (formerly Cessna Aircraft Co.) propellers that have a part number (P/N) and serial number (SN) listed in Table 1 or Table 2 of this AD, serviced by Oxford Aviation Limited, doing business as CSE Aviation. These propellers are installed on, but not limited to airplanes used in general aviation, agricultural, flight training, and charter businesses.

Table 1.—Hartzell Propellers by P/N and SN
CSE work order No. | Hartzell propeller P/N | Hartzell propeller SN
Y03516 | HC-E2YL-2BSF | BG2848
Y03517 | HC-E2YL-2BSF | BG4112
Y04052 | HC-82VL-2C1 | 942R
Y02965 | BHC-C2YF-1BF | AM2854
Y02778 | BHC-C2YF-2CKUF | AN1881
Y03382 | BHC-C2YF-2CKUF | AN1968
Y04132 | BHC-C2YF-2CKUF | AN2528
Y05097 | BHC-C2YF-2CKUF | AN3274
Y05048 | HC-C2YK-2CUF | AN3906
Y05047 | HC-C2YK-2CUF | AN4033
Y03016 | BHC-C2YF-2CKUF | AN4271
Y03983 | BHC-C2YF-2CLKUF | AN4289
Y03166 | BHC-C2YF-2CKUF | AN5248
Y02607 | BHC-C2YF-2CKLUF | AN5832
Y04855 | BHC-C2YF-2CKLUF | AN6857
Y04391 | BHC-C2YF-2CKUF | AN6981A
Y05102 | BHC-C2YF-2CLKUF | AN6998A
Y04709 | BHC-C2YF-2CKUF | AN7006A
Y05070 | BHC-C2YF-2CLKUF | AN7018A
Y03863 | BHC-C2YF-CLKUF | AN7019A
Y04108 | BHC-C2YF-2CKUF | AN7025A
Y03206 | BHC-C2YK-2CLKUF | AN7168B
Y04592 | BHC-C2YF-2CKUF | AN7071B
Y04865 | BHC-C2YF-2CLKUF | AN7168B
Y04846 | BHC-C2YF-2CKUF | AN7184B
Y04808 | BHC-C2YF-2CLKUF | AN7199B
Y03185 | BHC-C2YF-2CLKUF | AN7209B
Y03186 | BHC-C2YF-2CKUF | AN7215B
Y04975 | BHC-C2YF-2CKUF | AN7249B
Y04974 | BHC-C2YF-2CLKUF | AN7279B
Y04818 | BHC-C2YF-2CKUF | AN7280B
Y04532 | BHC-C2YF-2CKUF | AN7540B
Y04561 | BHC-C2YF-2CKUF | AN7552B
Y04638 | BHC-C2YF-2CLKUF | AN7567B
Y04639 | BHC-C2YF-2CKUF | AN7568B
Y04658 | BHC-C2YF-2CLKUF | AN7581B
Y02866 | HC-A3VF-2D | AT376
Y02867 | HC-A3VF-2D | AT431
Y04053 | HC-C2YK-2CUF | AU10008B
Y04096 | HC-C2YK-2CUF | AU10023B
Y04143 | HC-C2YK-2CUF | AU10126B
Y04171 | HC-C2YK-2CUF | AU10139B
Y04283 | HC-C2YK-2CUF | AU10165B
Y04274 | HC-C2YK-2CUF | AU10178B
Y04416 | HC-C2YK-2CUF | AU10401B
Y04415 | HC-C2YK-2CUF | AU10402B
Y04478 | HC-C2YK-2CUF | AU10462B
Y04518 | HC-C2YK-2CUF | AU10541B
Y04479 | HC-C2YK-2CUF | AU10542B
Y04563 | HC-C2YK-4BF | AU10614B
Y04564 | HC-C2YK-4BF | AU10615B
Y04560 | HC-C2YK-2CUF | AU10616B
Y04610 | HC-C2YK-2CUF | AU10696B
Y04565 | HC-C2YF-2CUF | AU10729B
Y04566 | HC-C2YK-2CUF | AU10730B
Y04632 | HC-C2YK-4BF | AU10733B
Y04636 | HC-C2YK-2CUF | AU10771B
Y04651 | HC-C2YK-4BF | AU10790B
Y04659 | HC-C2YK-2CUF | AU10817B
Y04681 | HC-C2YK-4BF | AU10827B
Y04701 | HC-C2YK-2CUF | AU10923B
Y04785 | HC-C2YK-2CUF | AU10952B
Y04786 | HC-C2YK-2CUF | AU11050B
Y04736 | HC-C2YK-2CUF | AU11117B
Y04826 | HC-C2YK-4BF | AU11145B
Y04871 | HC-C2YK-1BF | AU11279B
Y04890 | HC-C2YK-4BF | AU11343B
Y05000 | HC-C2YK-4CF | AU11591B
Y05050 | HC-C2YK-2CUF | AU11731B
Y04410 | HC-C2YK-2CGUF | AU1533
Y04409 | HC-C2YK-2CGUF | AU1603
Y04344 | HC-C2YK-2CLGUF | AU2892E
Y03377 | HC-C2YK-2CGUF | AU2955
Y03688 | HC-C2YK-2CU | AU354
Y02769 | HC-C2YK-2CUF | AU9013B
Y04343 | HC-C2YR-2CGUF | AU508E
Y03110 | HC-C2YK-2CUF | AU5236
Y04400 | HC-C2YK-2CLEUF | AU5974E
Y04652 | HC-C2YK-1B | AU6120
Y04321 | HC-C2YR-2CLEUF | AU6163
Y03200 | HC-C2YK-2CUF | AU7153E
Y03838 | HC-C2YK-2CUF | AU7357
Y04362 | BHC-C2YF-2CLKUF | AU7491B
Y04219 | HC-C2YK-2CLGUF | AU7662
Y02598 | HC-C2YK-CUF | AU8212A
Y02770 | HC-C2YK-2CUF | AU822
Y03482 | HC-C2YK-2CUF | AU8233A
Y03564 | HC-C2YK-2CUF | AU8299A
Y03773 | HC-C2YK-2CUF | AU8318A
Y03674 | HC-C2YK-2CUF | AU8338A
Y02991 | HC-C2YK-2CUF | AU8339A
Y03137 | HC-C2YK-2CUF | AU8347A
Y03018 | HC-C2YK-2CUF | AU8349A
Y02805 | HC-C2YK-2CUF | AU8354A
Y02703 | HC-C2YK-2CUF | AU8417A
Y02664 | HC-C2YK-2CUF | AU8859A
Y04095 | HC-C2YK-2CUF | AU8923B
Y03761 | HC-C2YK-CUF | AU8968B
Y02792 | HC-C2YK-2CUF | AU9012B
Y02848 | HC-C2YK-2CUF | AU9014B
Y03597 | HC-C2YK-2CUF | AU9015B
Y04735 | HC-C2YK-2CUF | AU9041B
Y03229 | HC-C2YK-2CGUF | AU9135B
Y02943 | HC-C2YK-2CUF | AU9136B
Y03197 | HC-C2YK-2CUF | AU9150B
Y04675 | HC-C2YK-2CUF | AU9182B
Y03352 | HC-C2YK-2CUF | AU9241B
Y03354 | HC-C2YK-2CUF | AU9243B
Y03097 | HC-C2YK-2CUF | AU9246B
Y03201 | HC-C2YK-2CUF | AU9247B
Y03686 | HC-C2YK-2CUF | AU9312B
Y03607 | HC-C2YK-2CUF | AU9332B
Y03614 | HC-C2YK-2CGUF | AU9393B
Y03606 | HC-C2YK-2CUF | AU9394B
Y03791 | HC-C2YK-2CUF | AU9395B
Y03866 | HC-C2YK-CUF | AU9396B
Y03888 | HC-C2YK-CUF | AU9509B
Y04948 | HC-C2YK-2CUF | AU9511B
Y03891 | HC-C2YK-2CUF | AU9518B
Y03797 | HC-C2YK-2CUF | AU9520B
Y04001 | HC-C2YK-2CGUF | AU9593B
Y05083 | HC-C2YK-2CUF | AU9599B
Y03694 | HC-C2YK-4BF | AU9616B
Y03696 | HC-C2YK-4BF | AU9618B
Y03695 | HC-C2YK-4BF | AU9630B
Y03620 | HC-C2YK-4BF | AU9631B
Y03627 | HC-C2YK-4BF | AU9638B
Y03625 | HC-C2YK-4BF | AU9649B
Y04047 | HC-C2YK-2CUF | AU9985B
Y04376 | HC-C2YL-1BF | AX522
Y05051 | HC-C2YR-1BF | AX527
Y02908 | HC-C2YL-1BF | AX841B
Y04763 | HC-C2YL-1BF | AX720A
Y04731 | HC-E2YR-2RBSF | BB6694
Y04900 | HC-E2YL-2BSF | BG2122
Y04738 | HC-E2YL-2BSF | BG2923
Y04547 | HC-E2YL-2BSF | BG3219
Y03153 | HC-E2YL-2BSF | BG3287
Y04061 | HC-E2YL-2BSF | BG3363
Y04917 | HC-E2YL-2BSF | BG372
Y04062 | HC-E2YL-2BSF | BG434
Y04190 | HC-E2YL-2BSF | BG4344
Y04901 | HC-E2YL-2BSF | BG4557
Y04737 | HC-E2YL-2BSF | BG648
Y04898 | HC-E2YR-2RBSF | BP3287
Y03327 | HC-E2YR-2RBS | BP5179
Y03680 | HC-E2YR-2RBSF | BP6199
Y04167 | HC-E2YR-2RBSF | BP6206
Y03138 | HC-E2YR-2RBSF | BP6606
Y02709 | HC-E2YR-2RBSF | BP6838
Y04899 | HC-E2YR-2RBSF | BP9158
Y03913 | HC-E2YR-2RBSF | BP9159
Y03139 | HC-E2YR-2RBSF | BP9168
Y04780 | PHC-A3VF-2B | BR834
Y02939 | HC-B3TN-3DY | BUA22056
Y02971 | HC-B3TN-3DY | BU12462
Y04089 | HC-B3TN-3C | BU14589
Y03948 | HC-BCTN-3B | BU16789
Y02767 | HC-B3TN-5FL | BV3382
Y02768 | HC-B3TN-5FL | BV3540
Y02946 | HC-B3TN-3DY | BUA22136
Y03726 | HC-B3TN-3G | BUA21467
Y03727 | HC-B3TN-3G | BUA23284
Y03928 | HC-B3TN-3D | BUA24401
Y04429 | HC-B3TN-3N | BUA24852
Y04430 | HC-B3TN-3N | BUA24992
Y05019 | HC-B3TN-3G | BUA27325
Y03719 | HC-B3TN-5E | BVA7456
Y03718 | HC-B3TN-5E | BVA7457
Y04443 | HC-B3TN-5FL | BVA7770
Y04444 | HC-B3TN-5FL | BVA7771
Y03304 | HC-B4TN-5ML | CD1746
Y03165 | HC-B4TN-5ML | CD1752
Y03164 | HC-B4TN-5ML | CD1973
Y04535 | HC-B4TN-S | CDA3529M1
Y04787 | HC-B4N-ML | CDA3703
Y04788 | HC-B4TN-5ML | CDA3704
Y03351 | HC-B4TN-5ML | CDA4424
Y04644 | HC-B4TN-5ML | CDA4819
Y04534 | HC-B4TN-S | CDA5047M1
Y04399 | HC-C2YK-1BF | CH11322
Y03764 | HC-C2YK-1BF | CH1614B
Y02124 | HC-C2YK-1BF | CH23470
Y02897 | HC-C2YK-1BF | CH32119A
Y04516 | HC-C2YK-1BF | CH20231
Y04371 | HC-C2YK-1BF | CH21618
Y04260 | HC-C2YK-1BF | CH23621
Y02641 | HC-C2YK-1BF | CH23890(E)
Y03969 | HC-C2YK-1BF | CH25517
Y02648 | HC-C2YK-1BF | CH26145
Y02896 | HC-C2YK-1BF | CH32118A
Y04244 | HC-C2YR-1BF | CH27227
Y03763 | HC-C2YK-1BF | CH27235
Y03704 | HC-C2YK-1BF | CH28190
Y03141 | HC-C2YK-1BF | CH29976
Y05015 | HC-C2YK-1BF | CH30451
Y04153 | HC-C2YK-1BF | CH32838B
Y03949 | HC-C2YK-1BF | CH32683B
Y05124 | HC-C2YKR-1BF | CH33316B
Y03205 | HC-C2YK-1BF | CH33520B
Y03850 | HC-C2YK-1BF | CH33777B
Y03843 | HC-C2YK-1BF | CH34179B
Y04230 | HC-C2YK-1BF | CH34607B
Y04014 | HC-C2YR-1BF | CH34638B
Y05078 | HC-C2YK-1BF | CH35009B
Y04361 | HC-C2YK-1BF | CH35037B
Y04587 | HC-C2YK-1BF | CH35445B
Y04588 | HC-C2YK-1BF | CH35466B
Y05076 | HC-C2YK-1BF | CH37285B
Y05079 | HC-C2YK-1BF | CH37286B
Y05056 | HC-C2YK-1BF | CH3730B
Y04891 | HC-C3YR-2LUF | CH4488A
Y03425 | HC-C2YK-1BF | CH5073
Y03428 | HC-C2YK-1B | CH617
Y04126 | HC-E2YL-2BTF | CJ514
Y03027 | HC-C3YR-2UF | CK3633A
Y02594 | HC-C3YR-2UF | CK3634A
Y03429 | HC-C3YR-2UF | CK3651A
Y03168 | HC-C3YR-2UF | CK3662A
Y03995 | HC-C3YR-2UF | CK3663A
Y03573 | HC-C3YR-2UF | CK3678A
Y03611 | HC-C3YR-2UF | CK3705A
Y03707 | HC-C3YR-2UF | CK3706A
Y03513 | HC-E3YR-2UF | CK3719A
Y03937 | HC-C3YR-2UF | CK3872A
Y03794 | HC-C3YR-2UF | CK3873A
Y03921 | HC-C3YR-2UF | CK3874A
Y04892 | HC-C3YR-2UF | CK4263A
Y03317 | HC-C3YR-2UF | CK4459A
Y02871 | HC-C3YR-2UF | CK4460A
Y02704 | HC-C3YR-2UF | CK4645A
Y03522 | HC-C3YR-2UF | CK4682A
Y04770 | HC-F2YR-1F | CM535
Y05039 | HC-C2YK-4BF | DH687E
Y04872 | HC-E3YR-2ATF | DJ10539A
Y04873 | HC-E3YR-2ALTF | DJ10542A
Y03975 | HC-E3YR-2ALTF | DJ10585A
Y03974 | HC-E3YR-2ATF | DJ10832A
Y03023 | HC-E3YR-2ATF | DJ8092A
Y03998 | HC-E3YR-2ATF | DJ8105A
Y03997 | HC-E3YR-2ATF | DJ8106A
Y02865 | HC-E3YR-2ALTF | DJ8128A
Y04149 | HC-E3YR-2ATF | DJ8137A
Y04150 | HC-E3YR-2ALTF | DJ8139A
Y04911 | HC-E3YR-2ALTF | DJ8151A
Y02580 | HC-E3YR-2ALTF | DJ8154A
Y04912 | HC-E3YR-2ATF | DJ8157A
Y02864 | HC-E3YR-2ATF | DJ8161A
Y02581 | HC-E3YR-2AFT | DJ8180A
Y04775 | HC-E3YR-2ATF | DJ8326A
Y04774 | HC-E3YR-2ALTF | DJ8329A
Y03760 | HC-E3YR-2ATF | DJ8872A
Y03022 | HC-E3YR-2ALTF | DJ9503A
Y02120 | HC-E2YR-1BF | DK1068
Y04375 | HC-E2YR-1BF | DK155
Y03331 | HC-E2YR-1BF | DK1902B
Y04373 | HC-E2YR-1BF | DK611
Y04168 | HC-E2YR-1BF | DK620
Y04471 | HC-C2YK-1BF | DK669
Y03040 | HC-C2YK-4BF | DN4101A
Y03590 | HC-C2YK-4BF | AU8619A
Y03129 | HC-C2YK-4BF | DN4111A
Y03442 | HC-C2YK-4BF | DN4112A
Y03003 | HC-C2YK-2CEUF | DN4126A
Y03630 | HC-C2YK-4BF | DN4127A
Y02620 | HC-C2YK-4FC7666A | DN4168A
Y02680 | HC-C2YK-4FC7666A | DN4171A
Y02786 | HC-C2YK-4FC7666A | DN4172A
Y02619 | HC-C2YK-4FC7666A | DN4175A
Y03588 | HC-C2YK-4BF | DN4187A
Y03116 | HC-C2YK-4CF | DN4216A
Y02679 | HC-C2YK-4FC7666A | DN4231A
Y03209 | HC-C2YK-4BF | AU9643B
Y02677 | HC-C2YK-4FC7666A | DN4249A
Y02667 | HC-C2YK-4FC7666A | DN4263A
Y03253 | HC-C2YK-4BF | DN4265A
Y03592 | HC-C2YK-4BF | DN4268
Y02796 | HC-C2YK-4FC7666A | DN4279A
Y02788 | HC-C2YK-4FC7666A | DN4280A
Y03210 | HC-C2YK-4BF | DN4284A
Y03212 | HC-C2YK-4BF | DN4299A
Y03574 | HC-C2YK-4BF | DN9650B
Y03260 | HC-C2YK-4BF | DN4340A
Y03254 | HC-C2YK-4BF | DN4341A
Y02665 | HC-C2YK-4FC7666A | DN4351A
Y02681 | HC-C2YK-4FC7666A | DN4364A
Y03208 | HC-C2YK-4BF | DN4371A
Y02787 | HC-C2YK-4FC7666A | DN4380A
Y03621 | HC-C2YK-4BF | DN4510A
Y02666 | HC-C2YK-4FC7666A | DN4521A
Y03589 | HC-C2YK-4BF | DN4514A
Y03619 | HC-C2YK-4BF | DN4515A
Y02678 | HC-C2YK-4FC7666A | DN4516A
Y02618 | HC-C2YK-4FC7666A | DN4522A
Y02615 | HC-C2YK-4FC7666A | DN4524A
Y02614 | HC-C2YK-4FC7666A | DN4712A
Y02616 | HC-C2YK-4FC7666A | DN4716A
Y03439 | HC-C2YK-4BF | DN4719A
Y02662 | HC-C2YK-4FC7666A | DN4955A
Y03626 | HC-C2YK-4BF | DN4957A
Y03252 | HC-C2YK-4BF | DN4963A
Y02668 | HC-C2YK-4FC7666A | DN4965A
Y04191 | HC-E2YL-2BLSF | DP94
Y02832 | HC-C3YR-1RF | DY2464A
Y04175 | PHC-C3YF-2UF | EB171
Y04174 | PHC-C3YF-2UF | EB173
Y03788 | PHC-C3YF-2UF | EB1977
Y03787 | PHC-C3YF-2UF | EB1978
Y02779 | HC-M2YR-2CEUF | FB379
Y04943 | PHC-C3YF-1RF | EE1354
Y03959 | PHC-C3YF-1RF | EE1369
Y03754 | HC-C2YR-1RF | EE227
Y04730 | PHC-C3YF-1RF | EE2322A
Y03767 | HC-C3YF-1RF | EE351
Y04246 | HC-BM5P-3C | EVA2226
Y04246 | HC-BM5P-3C | EVA2246
Y04169 | HC-B5MP-3C | EVA2281
Y02634 | HC-M2YR-2CLEUF | FB102
Y02732 | HC-M2YR-2CEUF | FB1061A
Y04252 | HC-M2YR-2CEUF | FB1064A
Y02733 | HC-M2YR-2CLEUF | FB1066A
Y04253 | HC-M2YR-2CLEUF | FB1067A
Y03332 | HC-M2YR-2CLEUF | FB1177B
Y04170 | HC-M2YR-2CLEUF | FB1196B
Y02719 | HC-M2YR-2CLEUF | FB1167B
Y02708 | HC-M2YR-2CEUF | FB409
Y04492 | HC-M2YR-2CEUF | FB454
Y03043 | HC-M2YR-2CEUF | FB99
Y02905 | HC-F2YL-2UF | FE11
Y02917 | HC-F2YL-2UF | FE229
Y03753 | HC-F2YL-2UF | FE282B
Y03827 | HC-F2YL-2UF | FE285B
Y03453 | HC-F2YL-2UF | FE58
Y04876 | HC-C3YF-5F | FR101
Y04725 | HC-C3YF-5F | FR185A
Y04726 | HC-C3YF-5F | FR186A
Y04829 | HC-C3YF-5F | FR187A
Y04830 | HC-C3YF-5F | FR188A
Y05110 | HC-C3YF-5F | FR192A
Y05111 | HC-C3YF-5F | FR193A
Y04971 | HC-C3YF-5F | FR206A
Y03814 | HC-C3YF-5F | FR207A
Y04878 | HC-C3YF-5F | FR39
Y03125 | HC-C3YF-5F | FR206A
Y02715 | HC-C3YF-5F | FR58
Y04448 | HC-C3YF-5F | FR68
Y02716 | HC-C3YF-5F | FR72
Y04450 | HC-C3YF-5F | FR73
Y04569 | HC-C3YF-5F | FR74
Y04449 | HC-C3YF-5F | FR78
Y04085 | HC-C3YF-5F | FR79
Y04970 | HC-C3YF-5F | FR80
Y02600 | HC-C3YF-5F | FR82
Y03527 | HC-C3YF-5F | FR83
Y04877 | HC-C3YF-5F | FR86
Y04570 | HC-C3YF-5F | FR87
Y04752 | HC-C3YF-5F | FR92
Y05008 | HC-C3YF-5F | FR94
Y03605 | HC-B4MP-3B | FWA3209
Y03604 | HC-B4MP-3B | FWA3201
Y03987 | HC-B4MP-3A | FWA3043
Y03902 | HC-B4MP-3A | FWA3216
Y03903 | HC-B4MP-3A | FWA3217
Y04351 | HC-B4MP-3A | FWA3270
Y03911 | HC-B4MP-3A | FWA3444
Y03910 | HC-B4MP-3A | FWA3445
Y03986 | HC-B4MP-3A | FWA3538
Y04352 | HC-B4MP-3A | FWA3732
Y04465 | HC-B4MP-3A | FWA3760
Y04466 | HC-B4MP-3A | FWA3761
Y03647 | HC-A6A-3A | GP135
Y03647 | HC-A6A-3A | GP135
Y02882 | HC-A2VK-2 | H238
Y02883 | HC-A2VK-2 | H2472
Y04864 | HC-A2YK-2 | H392
Y04863 | HC-A2YK-2 | H396
Y04979 | HC-E4N-3G | HH1739
Y04980 | HC-E4N-3G | HH360
Y04977 | HC-E4N-3G | HH378
Y04978 | HC-E4N-3G | HH379
Y03667 | HC-E4N-3 | HH43
Y04125 | HC-E4A-3J | HJ1050
Y04124 | HC-E4A-3J | HJ1079
Y04123 | HC-E4A-3J | HJ1213
Y04874 | HC-I3YR-1RF | HK127A
Y04597 | HC-A2VK-1 | J1153
Y04783 | BHC-C2YF-2CLKUF | JS11B
Y04687 | BHC-C2YF-CLKUF | JS70B
Y04051 | HC-82VL-2C | K2624N

Table 2.—McCauley Propellers by P/N and SN
CSE work order No. | McCauley propeller P/N | McCauley propeller SN
Y04664 | D2A34C67-NP | 714384
Y04665 | D2A34C67-NP | 714390
Y03274 | D2A34C67-NP | 723093
Y04543 | D2A34C67-NP | 723094
Y02754 | D2A34C67-NP | 723112
Y04360 | D3A32C90-MN | 739415
Y02989 | 2A34C50-NP | 743482
Y04285 | 2A34C203-C | 744591
Y04467 | D2A34C58-NO | 745446
Y04279 | 3FF32L501-A | 757134
Y04278 | 3FF32C501-A | 757204
Y02802 | 3AF32C87-N | 757861
Y04250 | 3FF32C501-A | 761008
Y03294 | 2A36C23-P-E-G | 761063
Y03724 | D2A34C67-NP | 766297
Y04251 | 3FF32C501-A | 768699
Y03855 | D2AF34C81-0 | 772113
Y04261 | B2D34C214 | 775347
Y03963 | B2D34C213 | 776696
Y04996 | B2D34C213-B | 783689
Y03060 | D3A34C402 | 785093
Y04396 | 3FF32C501 | 787591
Y03058 | C2A34C204 | 788168
Y04100 | 3AF34C503 | 793041
Y04183 | 3AF34C503-B | 794440
Y04084 | 2D34C215 | 795642
Y02771 | B2D34C220 | 795939
Y03924 | 3AF34C502 | 798390
Y03202 | 2A34C216 | 798602
Y04255 | 3AF34C503 | 798788
Y04663 | 3AF34C503 | 798978
Y01682 | B2D34C214-A | 800359
Y04067 | 3AF34C502 | 801561
Y04256 | 3AF34C502 | 801583
Y02605 | 3AF34C502 | 801584
Y04459 | 2D34C215 | 801873
Y04959 | 3AF32C93-NR | 803586
Y04112 | 3FF32C501A | 803966
Y03725 | 2A34C203-C | 805071
Y05013 | C2A34C204 | 805223
Y05053 | 3AF34C503 | 805387
Y05052 | 3AF34C502 | 805405
Y03297 | 2AF34C55-0 | 805970
Y04113 | 3FF32C501A | 806424
Y02575 | 3FF32C501A | 961655
Y03923 | 2D34C215-B | 808006
Y03824 | 3AF32C509 | 811678
Y04008 | 3AF32C508 | 811912
Y04782 | 3AF32C509 | 812482
Y04322 | D2AF34C302-A | 812874
Y05073 | 3AF32C509-B | 814111
Y05087 | 3AF32C506 | 820138
Y02810 | 3AF32C506 | 820811
Y02809 | 3AF32C507 | 820812
Y03692 | C2A34C204-BC | 821916
Y04402 | 3AF32C508 | 823133
Y02248 | 3AF32C507 | 970209
Y05032 | 3AF32C508-B | 840763
Y04033 | 3AF32C509-B | 841002
Y04495 | B2D34C213B | 851122
Y04397 | 3FF32C501 | 860047
Y04680 | 3AF34C502-B | 860142
Y03847 | D3A34C403-C | 861694
Y04087 | 3A32C406-C | 870695
Y03848 | D3A32C90-R | 881455
Y01748 | D3A32C409 | 881583
Y05072 | 3AF32C508-C | 890018
Y03723 | D2A34C67-0 | 890108
Y05104 | C3D36C415-C | 890669
Y05032 | D3A32C90-R | 890683
Y05034 | B3D34C405-C | 891388
Y03410 | 3AF32C508-C | 891956
Y04540 | 3AF34C502 | 891996
Y04063 | 2A34C203-B | 900028
Y03196 | 3GFR34C701-DF | 900684
Y04653 | 3A32C406-C | 901189
Y03524 | B2D3AC207-B | 902858
Y04499 | 3AF32C509-C | 911526
Y04498 | 3AF32C508-C | 912012
Y04924 | 3AF32C509 | 912323
Y04305 | 3AF34C502 | 912386
Y04473 | 3AF32C508-C | 921236
Y04474 | 3AF32C509-C | 921239
Y04099 | 2D34C215-B | 921659
Y04425 | 3AF32C509-C | 930215
Y04991 | D3A32C411-C | 930228
Y02387 | 5JFR36C1003 | 930291
Y02386 | 5JFR36C1003 | 930294
Y03011 | B2D37C229-B | 930318
Y02632 | B3D32C419 | 930644
Y03523 | C2A34C204-BC | 930703
Y03404 | B2D34C213-B | 931938
Y03474 | 4HFR34C762-H | 940651
Y04116 | 3AF32C512-C | 941278
Y04117 | 3AF32C512-C | 941284
Y03475 | 4HFR34C762-H | 941528
Y04941 | 3AF32C515 | 942101
Y03756 | 3AF32C515 | 942106
Y04825 | B3D32C419-C | 950588
Y04813 | 3FF34C501A | 961655
Y02608 | D3A34C403-C | 962466
Y04454 | 3AF32C508-C | 962536
Y04757 | 3AF34C502-C | 962541
Y04550 | 3AF32C509-C | 970276
Y02583 | 3AF32C522 | 971311
Y02582 | 3AF32C523 | 971324
Y05082 | B3D36C424-C | 980136
Y02914 | B2D34C214 | 980409
Y03894 | 3AF32C87-R | 981955
Y03893 | 3AF32C87-R | 982877
Y02752 | B2D34C213 | 983395
Y03538 | B2D34C213-B | 983396
Y04137 | B3D36C432-C | 992420
Y04595 | B2D34C214-B | 7710604
Y02895 | B2D34C213 | 7710613
Y03403 | 3AF34C503 | 7810116
Y04621 | D2A34C98-0 | 7810684
Y05054 | 3AF34C503 | 7910085
Y04821 | 3AF34C503 | 7910363
Y02889 | 3AF32C87NR | 7910688
Y02890 | 3AF32C87NR | 7910690
Y04721 | C2A34C204-C | 000679
Y04452 | D3A32C88 | 010463
Y04216 | 2A34C209 | 010522
Y04942 | 3AF32C523 | 020312
Y05007 | 2A34C201-C | 022421

Unsafe Condition

(d) This AD results from findings that CSE Aviation failed to perform some specific inspections and repairs. We are issuing this AD to detect potentially unsafe conditions that could result in a propeller blade separating from the hub and loss of control of the airplane.

Compliance

(e) You are responsible for having the actions required by this AD performed within the compliance times specified unless the actions have already been done.

(f) For propellers listed by SN in Table 1 or Table 2 overhauled or repaired by CSE after November 2003, or overhauled by an FAA-approved propeller repair facility after October 2003, no further action is required.

All Propellers Listed by SN in Table 1 or Table 2

(g) Before further flight, perform a document search of airplane and propeller records to determine if the propeller was involved in a ground strike.

(h) If the propeller was involved in a ground strike, perform the requirements specified in paragraph (j) or paragraph (k) of this AD within 10 flight hours (FH) time-in-service (TIS) after the effective date of this AD, or 2 years after the effective date of this AD, whichever is earlier.

(i) For all propellers listed by SN in Table 1 or Table 2 of this AD, not involved in a ground strike, use the compliance schedule in the following Table 3 to perform the requirements specified in paragraph (j) or paragraph (k) of this AD as applicable.

Table 3.—Compliance Schedule
If the time-since-overhaul (TSO) for the propeller on the effective date of this AD is * * * | Then perform the requirements of paragraph (j) or paragraph (k) of this AD within * * *
(1) 1,500 FH TSO or more | 200 FH TIS after the effective date of this AD, but do not exceed 2 years after the effective date of this AD.
(2) More than 1,000 FH TSO, but fewer than 1,500 FH TIS | 350 FH TIS after the effective date of this AD, but do not exceed 2 years after the effective date of this AD.
(3) 1,000 FH TSO or fewer | 500 FH TIS after the effective date of this AD, but do not exceed 2 years after the effective date of this AD.

Hartzell Propellers

(j) For Hartzell propellers listed by SN in Table 1 of this AD, do the following:

(1) Disassemble the propeller.

(2) Clean all disassembled propeller parts.

(3) Perform a visual inspection for the following conditions:

(i) Wear or damage such as cracks, corrosion, scratches, or nicks.

(ii) Except for blades installed new at the last CSE maintenance action, examine for:

(A) Bent or damaged pitch change knobs.

(B) Damage in the bore area of the blade shank.

(C) Damage in the blade balance hole.

(iii) Damage that indicates a previous ground strike (if applicable).

(iv) Unacceptable wear or damage in areas where shot peening is required. It is not necessary to strip the paint and corrosion protective coatings from the external surface of the blade. It is also not necessary to perform dimensional measurements on the external surface of the blade unless there is evidence of damage that has occurred since CSE returned the propeller to service.

(v) Confirm that CSE Aviation correctly performed the repairs listed in the manufacturers maintenance manuals. An example of a maintenance manual repair is chamfering of the hub grease fitting hole on Hartzell “Y” shank series propellers.

(4) Perform all Eddy Current inspections applicable.

(5) Repair and replace with serviceable parts, as necessary.

(6) Assemble and test.

(7) Confirm that hubs affected by AD 2001-23-08 are returned to service only on aircraft affected by that AD.

McCauley Propellers

(k) For McCauley propellers listed by SN in Table 2 of this AD, do the following:

(1) Disassemble the propeller.

(2) Clean all disassembled propeller parts.

(3) Perform a visual inspection for the following conditions:

(i) Wear or damage such as cracks, corrosion, scratches or nicks.

(ii) Damage that indicates a previous ground strike (if applicable).

(iii) Unacceptable wear or damage in areas where shot peening is required, paying particular attention to hub internal shot peened surfaces and blade shank peening. It is not necessary to strip the paint and corrosion protective coatings from the external surface of the blade. It is also not necessary to perform dimensional measurements on the external surface of the blade unless there is evidence of damage that has occurred since CSE returned the propeller to service.

(4) Inspect threaded surfaces of threaded blade shanks with a 10X magnifying glass for scratches parallel to retention threads in the thread root of the first four outboard blade threads. If the retention threads are scratched, repair is not allowed.

(5) Confirm that CSE Aviation correctly performed repairs or modifications listed in the manufacturer's maintenance instructions.

(6) Repair and replace with serviceable parts, as necessary.

(7) Assemble and test.

Definitions

(l) For the purposes of this AD:

(1) Overhauling a propeller is not necessary to comply with the requirements specified in paragraph (j) or paragraph (k) of this AD. If you do not overhaul the propeller, the TSO does not change.

(2) Unacceptable wear is wear or damage that can penetrate the shotpeen compressive layer.

Alternative Methods of Compliance

(m) The Manager, Chicago Aircraft Certification Office, has the authority to approve alternative methods of compliance for this AD if requested using the procedures found in 14 CFR 39.19.

Related Information

(n) The applicable Hartzell Propeller Inc. or McCauley Overhaul Manuals and Service Documents contain information on performing the inspections specified in this AD.

Issued in Burlington, Massachusetts, on November 21, 2006.
Peter A. White,
Acting Manager, Engine and Propeller Directorate, Aircraft Certification Service.

[FR Doc. E6-20206 Filed 11-28-06; 8:45 am]

BILLING CODE 4910-13-P